DEPARTMENT OF TRANSPORTATION

Federal Aviation Administration

Agency Information Collection Activities: Requests for Comments; Clearance of Renewed Approval of Information Collection: Pilot Records Improvement Act of 1996 (PRIA)/Pilot Records Database (PRD)

AGENCY: Federal Aviation Administration (FAA), DOT

ACTION: Notice and request for comments.

SUMMARY: In accordance with the Paperwork Reduction Act of 1995, FAA invites public comments about our intention to request the Office of Management and Budget (OMB) approval to renew a previously approved information collection. Title 49 United States Code (49 U.S.C.) 44703(h): Records of Employment of Pilot Applicants, which was established by the Pilot Records Improvement Act of 1996 (PRIA), mandates that air carriers who have been issued a part 119 air carrier certificate and are authorized to conduct operations under Title 14 of the Code of Federal Regulations (14 CFR) part 121 or part 135 as well as part 125 and 135 operators, request and receive FAA records, air carrier and other operator records, and the National Driver Register records before allowing an individual to begin service as a pilot.

DATES: Written comments should be submitted by December 12, 2016.

ADDRESSES: Send comments to the FAA at the following address: Ronda Thompson, Federal Aviation Administration, ASP-110, 800 Independence Ave. SW., Washington, DC 20591.

PUBLIC COMMENTS INVITED: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson by email at: Ronda.Thompson@faa.gov.

SUPPLEMENTARY INFORMATION:

OMB Control Number: 2120-0607.

Title: Pilot Records Improvement Act (PRIA)/Pilot Records Database (PRD).

Form Numbers: FAA Forms 8060-10, 8060-10A, 8060-11, 8060-11A, 8060-12, 8060-13.

Type of Review: Renewal of an information collection

Background: Title 49 United States Code (49 U.S.C.) 44703(h): Records of Employment of Pilot Applicants, which was established by the Pilot Records Improvement Act of 1996 (PRIA), mandates that air carriers who have been issued a part 119 air carrier certificate and are authorized to conduct operations under Title 14 of the Code of Federal Regulations (14 CFR) part 121 or part 135 as well as part 125 and 135 operators, request and receive FAA records, air carrier and other operator records, and the National Driver Register records before allowing an individual to begin service as a pilot. Additionally, fractional ownerships operating in accordance with subpart K of part 91 are required to complete a pilot safety background check before allowing an individual to begin service as a pilot (reference § 91.1051). Furthermore, air tour operators operating in accordance with § 91.147 are required to obtain an individual's previous drug and/or alcohol testing records before allowing an individual to begin service as a pilot. All requestors are heretofore referred to as “air carriers.” The FAA is also deploying a web-based online application called the Pilot Records Database (PRD) in December 2016 that is expected to benefit hiring air carriers, operators, and pilots required to comply with PRIA. This application automates the current PRIA process and provides an air carrier with immediate access to a consenting pilot's FAA records.

Respondents: Approximately 14,974.

Frequency: On occasion.

Estimated Average Burden per Response: 2.5 hours.

Estimated Total Annual Burden: 37,432 hours.

Issued in Washington, DC, on October 6, 2016.
Ronda Thompson,
FAA Information Collection Clearance Officer, Performance, Policy, and Records Management Branch, ASP-110.

[FR Doc. 2016-24771 Filed 10-12-16; 8:45 am]

BILLING CODE 4910-13-P